DEPARTMENT OF ENERGY

Federal Energy Regulatory Commission

Combined Notice of Filings # 1

September 15, 2006.

Take notice that the Commission received the following electric rate filings:

Docket Numbers: ER93-465-040; ER96-417-009; ER96-1375-010; OA96-39-017; OA97-245-010.

Applicants: Florida Power & Light Company.

Description: Florida Power & Light Co submits a compliance filing in accordance with FERC's Order issued 7/6/06.

Filed Date: 9/5/2006.

Accession Number: 20060913-0037.

Comment Date: 5 p.m. Eastern Time on Tuesday, October 3, 2006.

Docket Numbers: ER01-48-007.

Applicants: Powerex Corp.

Description: Powerex Corp submits an errata to its 7/31/06 triennial market power update analysis.

Filed Date: 9/11/2006.

Accession Number: 20060913-0156.

Comment Date: 5 p.m. Eastern Time on Monday, October 2, 2006.

Docket Numbers: ER02-2330-044.

Applicants: ISO New England Inc.

Description: ISO New England, Inc submits its compliance report pursuant to the Commission's Order issued 9/20/02.

Filed Date: 9/11/2006.

Accession Number: 20060913-0034.

Comment Date: 5 p.m. Eastern Time on Monday, October 2, 2006.

Docket Numbers: ER05-1502-004.

Applicants: California Independent System Operator Corporation.

Description: California Independent System Operator Corp submits a request to withdraw the revised CAISO Tariff Sheets provided as Attachment C of the 6/12/06 compliance filing.

Filed Date: 9/11/2006.

Accession Number: 20060913-0035.

Comment Date: 5 p.m. Eastern Time on Monday, October 2, 2006.

Docket Numbers: ER06-278-004.

Applicants: Nevada Hydro Company, Inc.

Description: Nevada Hydro Company, Inc submits a Supplemental Response to concerns raised by the California Independent System Operator, Inc., et al. Filed Date: 9/11/2006.

Accession Number: 20060914-0031.

Comment Date: 5 p.m. Eastern Time on Monday, October 2, 2006.

Docket Numbers: ER06-436-002.

Applicants: Avista Corporation.

Description: Avista Corporation submits its Second Revised Sheet 63 et al. to FERC OAT Tariff, Volume No. 8, et al., in response to FERC's notice of deficiency letter dated 8/8/06.

Filed Date: 9/8/2006.

Accession Number: 20060913-0039.

Comment Date: 5 p.m. Eastern Time on Friday, September 29, 2006.

Docket Numbers: ER06-1177-001.

Applicants: PJM Interconnection, LLC.

Description: PJM Interconnection, LLC submits Attachment I, in response to FERC's 6/29/06 request for additional information.

Filed Date: 9/12/2006.

Accession Number: 20060914-0032.

Comment Date: 5 p.m. Eastern Time on Tuesday, October 3, 2006.

Docket Numbers: ER06-1481-000.

Applicants: Pacific Gas and Electric Company.

Description: Pacific Gas and Electric Co submits revisions to its accepted Generator Special Facilities Agreements & Generator Interconnection Agreements with Shiloh Wind Partners, LLC and High Winds, LLC.

Filed Date: 9/11/2006.

Accession Number: 20060913-0012.

Comment Date: 5 p.m. Eastern Time on Monday, October 2, 2006.

Docket Numbers: ER06-1483-000.

Applicants: Midwest Independent Transmission System Operator, Inc.

Description: Midwest Independent Transmission System Operator, Inc. submits Revisions to Attachment R—Small Generator Interconnection Procedures of the Open Access Transmission and Energy Markets Tariff.

Filed Date: 9/8/2006.

Accession Number: 20060913-0033.

Comment Date: 5 p.m. Eastern Time on Friday, September 29, 2006.

Docket Numbers: ER06-1484-000.

Applicants: WFEC Genco, L.L.C.

Description: WFEC GENCO LLC submits a notice of cancellation of its FERC Electric Tariff, First Revised Volume No. 1, Service Agreement Nos. 1 and 2.

Filed Date: 9/12/2006.

Accession Number: 20060913-0155.

Comment Date: 5 p.m. Eastern Time on Tuesday, October 3, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-15637 Filed 9-21-06; 8:45 am]

BILLING CODE 6717-01-P